FEDERAL MARITIME COMMISSION

Meeting; Sunshine Act

Agency Holding the Meeting: Federal Maritime Commission.

Federal Register Citation of Previous Announcement:

74 FR 7894 (Feb. 20, 2009).

Previously Announced Time and Date of the Meeting:

February 11, 2009—11 a.m.

Change:

Correction of a clerical error which caused the publication of the incorrect agenda for the Commission meeting scheduled on February 25, 2009.

Agency Holding the Meeting: Federal Maritime Commission.

Time and Date: February 25, 2009—10 a.m.

Place: 800 North Capitol Street, NW., First Floor Hearing Room, Washington, DC.

Status: A portion of the meeting will be in Open Session and the remainder of the meeting will be in Closed Session.

Matters To Be Considered:

Open Session

1. Docket No. 02-15 Passenger Vessel Financial Responsibility—Request of Commissioner Brennan.

2. FMC Agreement No. 201200: The Houston Marine Terminal Operators/Freight Handlers Agreement.

3. FY 2009 Budget Status Report.

Closed Session

1. Docket No. 04-09—American Warehousing of New York, Inc. v. The Port Authority of New York and New Jersey; Docket No. 05-03—American Warehousing of New York, Inc. v. The Port Authority of New York and New Jersey.

2. Section 15 Order on Competition, Rates and Service in the U.S.-Australia/New Zealand and Northbound and Southbound Trade.

3. Staff Briefing Regarding Global Economic Downturn and Potential Impact on Stakeholders.

4. Internal Administrative Practices and Personnel Matters.

Contact Person for More Information: Karen V. Gregory, Secretary, (202) 523-5725.

Tanga FitzGibbon,
Assistant Secretary.

[FR Doc. E9-4110 Filed 2-23-09; 4:15 pm]

BILLING CODE 6730-01-P